FEDERAL MARITIME COMMISSION

Ocean Transportation Intermediary License Revocations

The Federal Maritime Commission hereby gives notice that the following Ocean Transportation Intermediary licenses have been revoked pursuant to section 19 of the Shipping Act of 1984 (46 U.S.C. Chapter 409) and the regulations of the Commission pertaining to the licensing of Ocean Transportation Intermediaries, 46 CFR part 515, effective on the corresponding date shown below:

License Number: 1393N.

Name: McLean Cargo Specialists, Incorporated dba Texas Overseas Shipping.

Address: 16680 Central Green Blvd, Houston, TX 77032.

Date Revoked: September 23, 2010.

Reason: Failed to maintain a valid surety bond.

License Number: 15242N.

Name: United Freight Consolidators, Inc. dba United Freight Lines.

Address: 8365 NW. 66th Street, Miami, FL 33136.

Date Revoked: October 14, 2010.

Reason: Failed to maintain a valid surety bond.

License Number: 016300NF.

Name: Rical Air Express, Inc. dba Rical Logistics.

Address: One Cross Island Plaza, Suite 227, Rosedale, NY 11422.

Date Revoked: October 15, 2010.

Reason: Failed to maintain valid surety bonds.

License Number: 16849NF.

Name: Foreign Cargo Management Corp.

Address: 1764 Quarter Street, West Babylon, NY 11704.

Date Revoked: October 18, 2010.

Reason: Failed to maintain valid surety bonds.

License Number: 18561N.

Name: One World Logistics LLC.

Address: 381 Blair Road, Avenel, NJ 07001.

Date Revoked: October 21, 2010.

Reason: Failed to maintain a valid surety bond.

License Number: 019237N.

Name: AERO DOC, Inc.

Address: 1790 NW. 82nd Avenue, Miami, FL 33126.

Date Revoked: October 17, 2010.

Reason: Failed to maintain a valid surety bond.

License Number: 019779N.

Name: Francisca Envios Inc.

Address: 1749 NW. 21st Terrace, Miami, Fl 33142.

Date Revoked: October 16, 2010.

Reason: Failed to maintain a valid surety bond.

License Number: 019871N.

Name: WLG (USA) LLC Dba Kay O'Neill (USA) LLC Dba WLG Line.

Address: 920 East Algonquin Road, Suite 120, Schaumburg, IL 60173.

Date Revoked: October 22, 2010.

Reason: Failed to maintain a valid surety bond.

License Number: 020178N.

Name: LCL Shipping USA, Inc. Dba Cargo Planet Logistics.

Address: 15117 South Broadway Street, Gardena, CA 090248.

Date Revoked: October 15, 2010.

Reason: Failed to maintain a valid surety bond.

License Number: 020208F.

Name: Ghanem Forwarding, LLC.

Address: 3327 Hollins Ferry Road, Halethorpe, MD 21227.

Date Revoked: October 20, 2010.

Reason: Failed to maintain a valid surety bond.

License Number: 020253NF.

Name: Concord International Transport, Inc.

Address: 10100 NW. 116th Way, Suite 14, Medley, FL 33178.

Date Revoked: October 22, 2010.

Reason: Failed to maintain valid surety bonds.

License Number: 020660F.

Name: GAL International Inc.

Address: 5070 Parkside Avenue, Suite 3104, Philadelphia, PA 19131.

Date Revoked: October 17, 2010.

Reason: Failed to maintain a valid surety bond.

License Number: 020675N.

Name: Service Galopando Corp.

Address: 3190 South State Road 7, Bay 5, Miramar, FL 33023.

Date Revoked: October 23, 2010.

Reason: Failed to maintain a valid surety bond.

License Number: 021466F.

Name: FJ Logistics Services, LLC.

Address: 1307 West Sixth Street, Corona, CA 92882.

Date Revoked: October 23, 2010.

Reason: Failed to maintain a valid surety bond.

License Number: 022152N

Name: Alpha Global Cargo Inc.

Address: 9990 NW. 14th Street, Suite 110, Miami, FL 33172.

Date Revoked: October 4, 2010.

Reason: Surrendered license voluntarily.

Sandra L. Kusumoto,
Director, Bureau of Certification and Licensing.

[FR Doc. 2010-27840 Filed 11-3-10; 8:45 am]

BILLING CODE 6730-01-P